DEPARTMENT OF THE INTERIOR

Bureau of Land Management

[OR-030-00-1220-00; GPO-0271]

Notice of Meeting of the Oregon Trail Interpretive Center Advisory Board

AGENCY: National Historic Oregon Trail Interpretive Center, Vale District, Bureau of Land Management, Interior.

ACTION: Notice of meeting.

SUMMARY: Notice is given that a meeting of the Advisory Board for the National Historic Oregon Trail Interpretive Center will be held on Thursday, August 3, 2000 from 8:00 a.m. to 4:00 p.m. in the Library Room at the Best Western Sunridge Inn, One Sunridge Lane, Baker City, Oregon. At an appropriate time, the Board will recess for approximately one hour for lunch. Public comments will be received from 11:00 a.m. to 11:15 a.m., August 3, 2000. Topics to be discussed are the Strategic Plan Update and reports from Coordinators of Subcommittees.

DATES: The meeting will begin at 8:00 a.m. and run to 4:00 p.m. August 3, 2000.

FOR FURTHER INFORMATION CONTACT: David B. Hunsaker, Bureau of Land Management, National Historic Oregon Trail Interpretive Center, P.O. Box 987, Baker City, OR 97814 (Telephone 541-523-1845).

Juan Palma,
District Manager.

[FR Doc. 00-17394 Filed 7-10-00; 8:45 am]

BILLING CODE 4310-33-M